DEPARTMENT OF HOMELAND SECURITY

Transportation Security Administration

Intent To Request Renewal From OMB of One Current Public Collection of Information: Sensitive Security Information Threat Assessments

AGENCY: Transportation Security Administration, DHS.

ACTION: Notice.

SUMMARY: The Transportation Security Administration (TSA) invites public comment on one currently approved information collection requirement abstracted below that we will submit to the Office of Management and Budget (OMB) for renewal in compliance with the Paperwork Reduction Act. TSA is seeking to renew the control number for the maximum three-year period in order to continue compliance with sec. 525 of the Department of Homeland Security Appropriations Act of 2007 (DHS Appropriations Act), and to continue the process TSA developed to determine whether the party or representative of a party seeking access to sensitive security information (SSI) in a civil proceeding in federal court may be granted access to the SSI.

DATES: Send your comments by April 16, 2007.

ADDRESSES: Comments may be mailed or delivered to Katrina Kletzly, Attorney-Advisor, Office of the Chief Counsel, TSA-2, Transportation Security Administration, 601 South 12th Street, Arlington, VA 22202-4220.

FOR FURTHER INFORMATION CONTACT: Katrina Kletzly at the above address, by telephone (571) 227-1995 or facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

TSA requested and subsequently received emergency clearance of this information collection request on January 12, 2007, which collection was assigned OMB control number 1652-0042. TSA is now seeking to renew the control number for the maximum three-year period in order to continue compliance with sec. 525 of the Department of Homeland Security Appropriations Act of 2007 (DHS Appropriations Act), and to continue the process TSA developed whereby a party seeking access to SSI in a civil proceeding in federal court that demonstrates a substantial need of relevant SSI in the preparation of the party's case, and that the party is unable without undue hardship to obtain the substantial equivalent of the information by other means, may request that the party or party's representative be granted conditional access to the SSI at issue in the case. Additionally, court reporters who are required to record or transcribe testimony containing specific SSI and do not have a current clearance required for access to classified national security information as defined by E.O. 12958 will need to request to be granted access to SSI. In order to determine if the individual may be granted access to SSI for this purpose, TSA will conduct a threat assessment that includes: (1) A fingerprint-based criminal history records check (CHRC); (2) a name-based check to determine whether the individual poses or is suspected of posing a threat to transportation or national security, including checks against terrorism, immigration or other databases TSA maintains or uses; and (3) a professional responsibility check (if applicable).

TSA will use the information collected to conduct the threat assessment for the purpose of determining whether the provision of such access to the information for the proceeding presents a risk of harm to the nation. The results of the threat assessment will be used to make a final determination on whether the individual may be granted access to the SSI at issue in the case. TSA estimates that the total annual hour burden for this collection will be 180 hours, based on an estimated 180 annual respondents and a one hour burden per respondent.

Issued in Arlington, Virginia, on February 8, 2007.
Peter Pietra,
Director of Privacy Policy and Compliance.

[FR Doc. E7-2552 Filed 2-13-07; 8:45 am]

BILLING CODE 9110-05-P